DEPARTMENT OF COMMERCE

International Trade Administration

[C-475-819]

Certain Pasta From Italy: Notice of Extension of Time Limit for the Final Results of the Tenth Countervailing Duty Administrative Review

AGENCY: Import Administration, International Trade Administration, Department of Commerce.

DATES: Effective Dates: December 4, 2007.

FOR FURTHER INFORMATION CONTACT: Andrew McAllister or Brandon Farlander, AD/CVD Operations, Office 1, Import Administration, International Trade Administration, U.S. Department of Commerce, 14th Street and Constitution Avenue, NW., Washington DC 20230; telephone: (202) 482-1174 and (202) 482-0182, respectively.

SUPPLEMENTARY INFORMATION:

Background

On August 6, 2007, the Department published the preliminary results of the 2005 administrative review of the countervailing duty order on certain pasta (“pasta”) from Italy. See Certain Pasta from Italy: Preliminary Results of the Tenth Countervailing Duty Administrative Review, 72 FR 43616 (August 6, 2007). This review covers three manufacturers/exporters of the subject merchandise to the United States: De Matteis Agroalimetare S.p.A. (“De Matteis”), Atar S.r.L. (“Atar”), and Antonio Pallante S.r.L. (“Pallante”). In the preliminary results, we stated that we would issue our final results for the countervailing duty administrative review no later than 120 days after the date of publication of the preliminary results (i.e., December 4, 2007).

Extension of Time Limit for Final Results

Section 751(a)(3)(A) of the Tariff Act of 1930, as amended (“the Act”), requires the Department to issue the final results in an administrative review within 120 days of the publication date of the preliminary results. However, if it is not practicable to complete the review within this time period, section 751(a)(3)(A) of the Act allows the Department to extend the time limit for the final results to a maximum of 180 days.

The Department has determined that completion of the final results of this review within the original time period is not practicable due to legal and factual issues that have arisen since the issuance of our preliminary results of review. Specifically, the Department requires additional time to review interested parties' comments on De Matteis' November 5, 2007, supplemental questionnaire response. Thus, in accordance with section 751(a)(3)(A) of the Act, the Department is extending the time period for issuing the final results of review by an additional 60 days, until February 4, 2008.

This notice is published pursuant to sections 751(a)(2)(B)(iv) and 777(i)(1) of the Act.

Dated: November 28, 2007.
Stephen J. Claeys,
Deputy Assistant Secretary for Import Administration.

[FR Doc. E7-23488 Filed 12-3-07; 8:45 am]

BILLING CODE 3510-DS-P